DEPARTMENT OF THE TREASURY

Office of the Comptroller of the Currency

12 CFR Chapter I

[Docket ID FFIEC-2014-0001]

BOARD OF GOVERNORS OF THE FEDERAL RESERVE SYSTEM

12 CFR Chapter II

[Docket No. OP-1491]

FEDERAL DEPOSIT INSURANCE CORPORATION

12 CFR Chapter III

Regulatory Publication and Review Under the Economic Growth and Regulatory Paperwork Reduction Act of 1996

AGENCIES: Office of the Comptroller of the Currency (“OCC”), Treasury; Board of Governors of the Federal Reserve System (“Board”); and Federal Deposit Insurance Corporation (“FDIC”).

ACTION: Notice of regulatory review; request for comments.

SUMMARY: The OCC, Board, and FDIC (“we” or “Agencies”) are conducting a review of the regulations we have issued to identify outdated, unnecessary, or unduly burdensome regulations for insured depository institutions. This review is required by section 2222 of the Economic Growth and Regulatory Paperwork Reduction Act of 1996 (“EGRPRA”). To facilitate this review, the Agencies have divided these regulations into 12 subject-matter categories and identified the regulations within each category. At regular intervals over the next two years, the Agencies will publish four Federal Register requests for comment. Each will address one or more categories. We will invite the public to identify the regulations in each category that they believe are outdated, unnecessary, or unduly burdensome for insured depository institutions and their regulated holding companies. This is the first of the four Federal Register requests for comment. In it, we are seeking comment on the regulations in the following three categories: Applications and Reporting, Powers and Activities, and International Operations. We will address the remaining nine categories in the three subsequent requests for comment. To aid the public, we also are publishing a chart that sets forth the rules addressed in this document, as well as those that we will address in the remaining three.

DATES: Written comments must be received no later than September 2, 2014.

ADDRESSES: Comments may be submitted through the Federal eRulemaking Portal: “Regulations.gov.” You can reach this portal through the Agencies' EGRPRA Web site, http://egrpra.ffiec.gov. On this site, click “Submit a Comment” and follow the instructions. Alternatively, go to http://www.regulations.gov, enter “FFIEC-2014-0001” in the Search Box, click “Search,” and click “Comment Now.” Those who wish to submit their comments by an alternate means may do so as indicated below.

OCC

We encourage commenters to submit comments through the Federal eRulemaking Portal, Regulations.gov, in accordance with the previous paragraph. Alternatively, comments may be emailed to regs.comments@occ.treas.gov or sent by mail to Legislative and Regulatory Activities Division, Office of the Comptroller of the Currency, Mail Stop 9W-11, 400 7th Street SW., Washington, DC 20219. Comments also may be faxed to (571) 465-4326 or hand delivered or sent by courier to 400 7th Street SW., Washington, DC 20219. For comments submitted by any means other than Regulations.gov, you must include “OCC” as the agency name and “Docket ID FFIEC-2014-0001” in your comment.

In general, the OCC will enter all comments received into the docket and publish them without change on Regulations.gov. Comments received, including attachments and other supporting materials, as well as any business or personal information you provide, such as your name and address, email address, or phone number, are part of the public record and subject to public disclosure. Therefore, please do not include any information with your comment or supporting materials that you consider confidential or inappropriate for public disclosure.

You may inspect and photocopy in person all comments received by the OCC at 400 7th Street SW., Washington, DC 20219. For security reasons, the OCC requires that visitors make an appointment to inspect or photocopy comments. You may make an appointment by calling (202) 649-6700. Upon arrival, visitors will be required to present valid government-issued photo identification and submit to a security screening.

Board

We encourage commenters to submit comments regarding the Board's regulations by any of the following methods:

• Agency Web site: http://www.federalreserve.gov/apps/foia/proposedregs.aspx. Follow the instructions for submitting comments on the Agency Web site.

• Federal eRulemaking Portal, in accordance with the directions above.

• Email: regs.comments@federalreserve.gov. Include “EGRPRA” and Docket No. OP-1491 in the subject line of the message.

• FAX: (202) 452-3819.

• Mail: Robert deV. Frierson, Secretary, Board of Governors of the Federal Reserve System, 20th Street and Constitution Avenue NW., Washington, DC 20551.

In general, the Board will enter all comments received into the docket and publish them without change on Regulations.gov. Comments received, including attachments and other supporting materials, as well as any business or personal information you provide, such as your name and address, email address, or phone number, are part of the public record and subject to public disclosure. Therefore, please do not enclose any information with your comment or supporting materials that you consider confidential or inappropriate for public disclosure.

You may inspect and photocopy in person all comments received by the Board at 20th and Constitution Avenue NW., Washington, DC 20551. For security reasons, the Board requires that visitors make an appointment to inspect comments. You may make an appointment by calling (202) 452-3000. Upon arrival, visitors will be required to present valid government-issued photo identification and submit to a security screening.

FDIC

We encourage commenters to submit comments through the Federal eRulemaking Portal, “Regulations.gov,” in accordance with the directions above. Alternatively, you may submit comments by any of the following methods:

• Agency Web site: http://www.fdic.gov/regulations/laws/federal. Follow instructions for submitting comments on the Agency Web site.

• Email: Comments@FDIC.gov. Include ”EGRPRA” in the subject line of the message.

• Mail: Robert E. Feldman, Executive Secretary, Attention: Comments, Federal Deposit Insurance Corporation, 550 17th Street NW., Washington, DC 20429.

• Hand Delivery/Courier: Guard station at the rear of the 550 17th Street Building (located on F Street) on business days between 7 a.m. and 5 p.m. (EST).

We will post all comments received to http://www.fdic.gov/regulations/laws/federal without change, including any personal information provided. Comments may be inspected and photocopied in the FDIC Public Information Center, 3501 North Fairfax Drive, Room E-1002, Arlington, VA 22226, between 9 a.m. and 5 p.m. (EST) on business days. Paper copies of public comments may be ordered from the Public Information Center by calling (877) 275-3342.

FOR FURTHER INFORMATION CONTACT:

OCC: Karen McSweeney, Counsel (202) 649-6295; for persons who are deaf or hard of hearing, TTY (202) 649-5597.

Board: Walter McEwen, Senior Counsel (202) 452-3321; Claudia Von Pervieux, Counsel (202) 452-2552; Matthew Bornfreund, Attorney (202) 452-3818.

FDIC: Michelle M. Borzillo, Senior Counsel (703) 562-6083; Claude A. Rollin, Counsel (703) 562-6327; Ann Taylor, Counsel (202) 898-3573.

SUPPLEMENTARY INFORMATION:

I. Introduction

Congress enacted section 2222 of EGRPRA ¹ to minimize unnecessary government regulation consistent with safety and soundness, to promote consistency between the Agencies' regulations, and to support consumer protection. The statute requires that not less frequently than once every 10 years, the Federal Financial Institutions Examination Council (“FFIEC”),² along with the Agencies,³ conduct a review of their regulations to identify outdated, unnecessary, or unduly burdensome requirements imposed on insured depository institutions. In conducting this review, the FFIEC or Agencies shall (a) categorize their regulations by type and (b) at regular intervals, provide notice and solicit public comment on categories of regulations, requesting commenters to identify areas of regulations that are outdated, unnecessary, or unduly burdensome.⁴

¹ Public Law 104-208 (1996), codified at 12 U.S.C. 3311.

² The FFIEC is an interagency body empowered to prescribe uniform principles, standards, and report forms for the Federal examination of financial institutions and to make recommendations to promote uniformity in the supervision of financial institutions. The FFIEC does not issue regulations that impose burden on financial institutions and, therefore, we have not separately captioned the FFIEC in this notice.

³ The FFIEC is comprised of the OCC, Board, FDIC, National Credit Union Administration (“NCUA”), Consumer Financial Protection Bureau (“CFPB”), and State Liaison Committee. Of these, only the OCC, Board, and FDIC are statutorily required to undertake the EGRPRA review. The NCUA elected to participate in the first EGRPRA review ten years ago, and the NCUA Board again has elected to participate in this review process. Consistent with its approach during the first EGRPRA review, NCUA will separately issue notices and requests for comment on its rules. The CFPB is required to review its significant rules and publish a report of its review no later than five years after they take effect. See 12 U.S.C. 5512(d). This process is separate from the EGRPRA process.

⁴ Insured depository institutions also are subject to regulations that are not required to be reviewed under the EGRPRA process. Examples include rules for which rulemaking authority has transferred to the CFPB and anti-money laundering regulations issued by the Department of the Treasury's Financial Crimes Enforcement Network, among others. If, during the EGRPRA process, the Agencies receive a comment about a regulation that is not subject to the EGRPRA review, we will forward that comment to the appropriate agency.

EGRPRA also requires the FFIEC or the Agencies to publish in the Federal Register a summary of the comments received, identifying significant issues raised and commenting on these issues. It also directs the Agencies to eliminate unnecessary regulations to the extent that such action is appropriate. Finally, the statute requires the FFIEC to submit to Congress a report that summarizes any significant issues raised in the public comments and the relative merits of such issues. The report also must include an analysis of whether the Agencies are able to address the regulatory burdens associated with such issues or whether these burdens must be addressed by legislative action.

II. The EGRPRA Review's Targeted Focus

The EGRPRA regulatory review provides an opportunity for the public and the Agencies to look at groups of related regulations and to identify opportunities for burden reduction. For example, the EGRPRA review may facilitate the identification of statutes and regulations that share similar goals or complementary methods where one or more Agencies could eliminate overlapping requirements. Alternatively, commenters may identify regulations or statutes that impose requirements that are no longer consistent with the way that business is conducted and that, therefore, the Agencies might eliminate.

The EGRPRA review also provides the Agencies and the public with an opportunity to consider how to reduce burden on community banks and other small, insured depository institutions or holding companies. We are keenly aware of the role that these institutions play in providing consumers and businesses across the nation with essential financial services and access to credit, and we are concerned about the impact of regulatory burden on these smaller institutions. We understand that when an Agency issues a new regulation or amends a current regulation, smaller institutions may have to devote considerable resources to determine if and how the regulation will affect them. Through the public comment process, the EGRPRA review can help the Agencies identify and target regulatory changes to reduce burden on these smaller institutions.

Burden reduction must, however, be compatible with the safety and soundness of insured depository institutions, their affiliates, and the financial system as a whole. It also must be consistent with the Agencies' statutory mandates, many of which require the issuance of regulations. EGRPRA recognizes that effective burden reduction may require legislative change. Accordingly, as part of this review, we specifically ask the public to comment on the relationship among burden reduction, regulatory requirements, and statutory mandates.

In addition, we note that the Agencies also consider regulatory burden each time we propose, adopt, or amend a rule. For example, under the Paperwork Reduction Act of 1995 and the Regulatory Flexibility Act, the Agencies assess each rulemaking with respect to the burdens the rule might impose. Furthermore, we invite the public to comment on every rule we propose, as required by the Administrative Procedure Act (“APA”).

III. The EGRPRA Review Process

Taken together for purposes of EGRPRA, the Agencies' regulations covering insured depository institutions encompass more than 100 subjects.⁵ Consistent with the EGRPRA statute, the Agencies have grouped these regulations into the following 12 regulatory categories: Applications and Reporting; Banking Operations; Capital; Community Reinvestment Act; Consumer Protection; ⁶ Directors, Officers and Employees; International Operations; Money Laundering; Powers and Activities; Rules of Procedure; Safety and Soundness; and Securities. To determine these categories, we divided the regulations by type and sought to have no category be too large or broad.

⁵ Consistent with EGRPRA's focus on reducing burden on insured depository institutions, the Agencies have not included their internal, organizational or operational regulations in this review. These regulations impose minimal, if any, burden on insured depository institutions. Furthermore, we have not included in this review those rules that will go into effect during the EGRPRA review, new regulations that have only recently gone into effect, or rules that we have yet to fully implement. As previously noted, the Agencies were required to take burden into account in adopting these regulations.

⁶ The Agencies are seeking comment only on those consumer protection regulations for which they retain rulemaking authority for insured depository institutions, and regulated holding companies following passage of the Dodd-Frank Wall Street Reform and Consumer Protection Act, Public Law 111-203, 124 Stat. 1376 (2010) (“Dodd-Frank Act”).

Over the next two years, the Agencies plan to publish four Federal Register notices, each addressing one or more categories of rules. Each Federal Register notice will have a 90-day comment period. Today, we are publishing the first of these four notices, addressing the following three categories of regulations: Applications and Reporting, Powers and Activities, and International Operations. We invite the public to identify outdated, unnecessary, or unduly burdensome regulatory requirements imposed on insured depository institutions and their holding companies in these three categories.

To assist the public's understanding of how we have organized the EGRPRA review, the Agencies have prepared a chart that lists the three categories of regulations for which we are currently requesting comments, as well as the remaining nine categories on which we will seek comment in the future. On the chart, the left column divides the categories into specific subject-matter areas. The headings at the top of the chart identify the types of institutions affected by the regulations.

After comments have been received, the Agencies will review the comments and decide whether further action is appropriate with respect to the regulations. The Agencies will make this decision jointly in the case of rules that we have issued on an interagency basis. Similarly, we will undertake any rulemaking to amend or repeal those rules on an interagency basis. For rules issued by a single agency, the issuing agency will review the comments received and independently determine whether amendments to or repeal of its rules are appropriate. If so, that Agency will initiate a rulemaking to effect such change. In all cases, the Agencies will provide the public with an opportunity to comment on any proposed amendment to or repeal of a regulation, as required by the APA.

IV. Request for Burden Reduction Comments on the First Three Categories of Regulations: Applications and Reporting, Powers and Activities, and International Operations

As noted previously, the Agencies are asking the public to comment on regulations in three specific categories to identify outdated, unnecessary, or unduly burdensome requirements imposed on insured depository institutions and their regulated holding companies. Where possible, we ask commenters to cite to specific regulatory language or provisions. We also welcome suggested alternative provisions or language in support of a comment, where appropriate. Where implementation of a suggestion would require modification of a statute, we ask the commenter to identify the statute and the needed change, where possible.

Comments on Application and Reporting rules for Federal savings associations. The Dodd-Frank Act transferred the rulewriting authority for Federal consumer financial laws to the CFPB (with some exceptions) and the rulewriting authority for all other Federal and state savings association and savings and loan holding company rules to the relevant Agency. Following this transfer, each Agency made its own decision about how to incorporate these former Office of Thrift Supervision (“OTS”) rules into its regulations. The OCC republished the former OTS rules at 12 CFR parts 100 through 197. As a result, in most cases, the OCC has one set of rules applicable to national banks and another set of rules applicable to Federal savings associations or, where appropriate, to all savings associations.

However, the OCC has decided to propose integrating its Application and Reporting rules (also referred to as Licensing rules) ⁷—to the extent appropriate and consistent with statutory charter differences—for national banks and Federal savings associations, in order to streamline its applications processing and to facilitate improvements in its electronic filing systems. Accordingly, on May 21, 2014, the OCC issued a Notice of Proposed Rulemaking (“NPR”) (a) to integrate its national bank and savings association Application and Reporting rules, and (b) to revise some of these rules with the goal of eliminating unnecessary requirements consistent with safety and soundness.⁸

⁷ These rules are set forth on pages 1-2 of the chart.

⁸ http://www.occ.gov/news-issuances/bulletins/2014/bulletin-2014-22a.pdf.

The OCC recognizes that the timing and substance of this NPR and the EGRPRA review of the Application and Reporting rules overlap. In an effort to provide the fullest opportunity for public comment, the OCC invites comment on its current Application and Reporting rules pursuant to this notice, on its proposed revisions to the Application and Reporting rules set forth in the NPR, or on both. The OCC will consider all comments it receives when it finalizes its integrated Application and Reporting rules.

Comments on rules transferred from the OTS to the FDIC that involve state savings associations. Pursuant to section 316(b) of the Dodd-Frank Act, rules transferred from the OTS to the FDIC and other successor agencies remain in effect “until modified, terminated, set aside, or superseded in accordance with applicable law” by the relevant successor agency, by a court of competent jurisdiction, or by operation of law. When the FDIC republished the transferred OTS regulations as new FDIC regulations applicable to state savings associations, the FDIC stated in its Federal Register notice that its staff would evaluate the transferred OTS rules and might later recommend incorporating the transferred OTS regulations into other FDIC rules, amending them, or rescinding them.⁹ This process began in 2013 and continues, involving publication in the Federal Register of a series of NPRs and rulemakings.

⁹ 76 FR 47652, 47653 (Aug. 5, 2011).

The FDIC will consider public comments submitted either through the EGRPRA review process or through any notice and comment rulemaking related to the FDIC's determinations regarding the transferred OTS regulations.

Comments on rules transferred from the OTS to the Board on savings and loan holding companies. In August 2011, the Board adopted interim final rules for savings and loan holding companies as Regulations LL and MM.¹⁰ In connection with the action, the Board requested comments on the rules. Any comments received during the EGRPRA process will be taken into account in connection with the adoption of the final rules or in connection with any subsequent requests for comment on additional changes to these regulations.

¹⁰ 12 CFR parts 238 and 239.

Specific issues for commenters to consider. The Agencies specifically invite comment on the following issues as they pertain to the Agencies' Applications and Reporting, Powers and Activities, and International Operations rules addressed in this notice. We will ask these same questions for each notice we issue in connection with the EGRPRA process.

• Need for statutory change. Do the statutes underlying the regulations in these categories impose outdated, unnecessary, or unduly burdensome requirements on insured depository institutions or their regulated holding companies? If so, how should the statutes be amended?

• Need and purpose of the regulations. Have there been changes in the financial services industry, consumer behavior, or other circumstances that cause any regulations in these categories to be outdated, unnecessary, or unduly burdensome? If so, how should these regulations be amended? Do any of these regulations impose burdens not required by their underlying statutes? If so, what regulatory changes do you recommend?

• Overarching approaches/flexibility. With respect to the regulations and underlying statutes in these categories, could an Agency use a different regulatory approach to impose less regulatory burden on the entities it supervises, while remaining faithful to statutory intent? Are any of the regulations or underlying statutes in these categories unnecessarily inflexible? If so, which ones and how should they be amended?

• Effect on competition. Do any of the regulations or underlying statutes in these categories create a competitive disadvantage for one part of the financial services industry compared to another? If so, how should they be amended?

• Reporting, recordkeeping and disclosure requirements. Do any of the regulations or underlying statutes in these categories impose unnecessarily burdensome reporting, recordkeeping, or disclosure requirements on insured depository institutions and their holding companies? Could the Agencies consolidate or eliminate any of these requirements? Could a financial institution fulfill any of these requirements electronically (if they are not already permitted to do so) and experience a burden reduction? If so, please provide specific recommendations.

• Unique characteristics of a type of institution. Do any of the regulations or underlying statutes in these categories impose requirements that are unwarranted by the unique characteristics of a particular type of insured depository institution or holding company? If so, how should these regulations be amended?

• Clarity. Are the regulations and underlying statutes in these categories clear and easy to understand? Are there specific regulations or underlying statutes in need of clarification? If so, please identify the regulations and statutes.

• Burden on community banks and other smaller, insured depository institutions. Are there regulations or underlying statutes in these categories that impose outdated, unnecessary, or unduly burdensome requirements on a substantial number of community banks or other smaller, insured depository institutions or holding companies? Should any of these regulations be amended or repealed in order to minimize this impact? If so, please specify the regulation(s).

• Scope of rules. Is the scope of each rule in these categories consistent with the intent of the underlying statute(s)? Could we amend the scope of a rule to clarify its applicability or to reduce the burden, while remaining faithful to statutory intent? If so, specify which regulation(s) should be clarified.

BILLING CODE 4810-33-P; 6210-01-P; 6714-01-P

Dated: May 26, 2014.
Thomas J. Curry,
Comptroller of the Currency.
By order of the Board of Governors of the Federal Reserve System, May 22, 2014.
Robert DeV. Frierson,
Secretary of the Board.
Dated: May 23, 2014.
By order of the Board of Directors.
Federal Deposit Insurance Corporation.
Robert E. Feldman,
Executive Secretary.

[FR Doc. 2014-12741 Filed 6-3-14; 8:45 am]

BILLING CODE 4810-33-C; 6210-01-C; 6714-01-C